NUCLEAR REGULATORY COMMISSION

[Docket Nos. 50-255-LT-2, 50-155-LT-2, 72-007-LT, and 72-043-LT-2; ASLBP No. 22-974-01-LT-BD01]

Entergy Nuclear Operations, Inc., Entergy Nuclear Palisades, LLC, Holtec International, and Holtec Decommissioning International, LLC (Palisades Nuclear Plant and Big Rock Point Site); Establishment of Atomic Safety and Licensing Board

Pursuant to the Commission's regulations, see, e.g., 10 CFR 2.104, 2.105, 2.300, 2.309, 2.313, 2.318, and 2.321, and in accordance with Commission Memorandum and Order CLI-22-08 issued on July 15, 2022, notice is hereby given that an Atomic Safety and Licensing Board (Board), consisting of a single administrative judge serving as Presiding Officer, is being appointed for the purpose of compiling the hearing record, ruling on motions related to developing the factual record, presiding at any oral hearing, and certifying the completed record to the Commission in the following license transfer proceeding:

Entergy Nuclear Operations, Inc., Entergy Nuclear Palisades, LLC, Holtec International, and Holtec Decommissioning International, LLC (Palisades Nuclear Plant and Big Rock Point Site)

This proceeding concerns a license transfer application involving (1) the renewed facility operating license for the Palisades Nuclear Plant (Palisades) and the general license for the Palisades Independent Spent Fuel Storage Installation (ISFSI); and (2) the facility operating license for Big Rock Point and the general license for the Big Rock Point ISFSI. Entergy Nuclear Operations, Inc., Entergy Nuclear Palisades, LLC, Holtec International, and Holtec Decommissioning International, LLC (HDI) seek NRC consent to the indirect transfer of control of the licenses to Holtec International and to the transfer of operating authority to HDI to conduct licensed activities at the sites. They also seek NRC approval of conforming administrative license amendments to reflect the requested transfers.

In CLI-22-08, the Commission stated, inter alia, that (1) the hearing shall be limited to the four issues specified in CLI-22-08; (2) the Presiding Officer should endeavor to adhere to the Model Milestones to the extent practicable; and (3) the Presiding Officer shall certify the hearing record to the Commission within twenty-five days of the conclusion of the hearing. See CLI-22-08, slip op. at 133-36.

The administrative judge who will serve as Presiding Officer is: Paul S. Ryerson, Atomic Safety and Licensing Board Panel, U.S. Nuclear Regulatory Commission, Washington, DC 20555-0001.

All correspondence, documents, and other materials shall be filed in accordance with the NRC E-Filing rule, 10 CFR 2.302.

Rockville, Maryland.

Dated: July 18, 2022.
Edward R. Hawkens,
Chief Administrative Judge, Atomic Safety and Licensing Board Panel.

[FR Doc. 2022-15664 Filed 7-21-22; 8:45 am]

BILLING CODE 7590-01-P